DEPARTMENT OF HEALTH AND HUMAN SERVICES

Centers for Disease Control and Prevention

Advisory Committee to the Director, Centers for Disease Control and Prevention (ACD, CDC)

Notice of Cancellation: This notice was published in the Federal Register on May 19, 2009, Volume 74, Number 95, pages 23422-23423. The meeting previously scheduled to convene on June 4, 2009, has been cancelled.

Contact Person for More Information: Brad Perkins, M.D., M.B.A., Executive Officer, Advisory Committee to the Director, CDC, 1600 Clifton Road, NE., M/S D-14, Atlanta, Georgia 30333. Telephone 404/639-7000.

The Director, Management Analysis and Services Office, has been delegated the authority to sign Federal Register notices pertaining to announcements of meetings and other committee management activities, for both CDC and the Agency for Toxic Substances and Disease Registry.

Dated: May 19, 2009.
Elaine L. Baker,
Director, Management Analysis and Services Office, Centers for Disease Control and Prevention.

[FR Doc. E9-12123 Filed 5-22-09; 8:45 am]

BILLING CODE 4163-18-P